SECURITIES AND EXCHANGE COMMISSION

[File No. 500-1]

In the Matter of Greyfield Capital, Inc.; Order of Suspension of Trading

July 27, 2005.

It appears to the Securities and Exchange Commission that there is a lack of current and accurate information concerning the securities of Greyfield Capital, Inc. (“GRYF”) because of questions as to whether the company was validly reorganized as an Oregon company and the identity of its current officers and directors, whether there have been inaccurate statements about what line of business it is in, whether its recent issuance of shares was validly authorized, and whether there are exaggerations concerning the magnitude of the company's operations in recent press releases.

The Commission is of the opinion that the public interest and the protection of investors require a suspension of trading in the securities of the above-listed company.

Therefore, it is ordered, pursuant to Section 12(k) of the Securities Exchange Act of 1934, that trading in the above-listed company is suspended for the period from 9:30 a.m. EDT July 27, 2005 through 11:59 p.m. EDT, on August 9, 2005.

By the Commission.
Jonathan G. Katz,
Secretary.

[FR Doc. 05-15120 Filed 7-27-05; 12:15 pm]

BILLING CODE 8010-01-P